DEPARTMENT OF ENERGY

Federal Energy Regulatory Commission

Notice of Effectiveness of Exempt Wholesale Generator and Foreign Utility Company Status

Sanford Airport Solar, LLC | EG20-205-000
Sugar Creek Wind One LLC | EG20-207-000
Reloj del Sol Wind Farm LLC | EG20-208-000
Wildcat Creek Wind Farm LLC | EG20-209-000
Copper Mountain Solar 5, LLC | EG20-210-000
Battle Mountain SP, LLC | EG20-211-000
Millican Solar Energy LLC | EG20-212-000
Prineville Solar Energy LLC | EG20-213-000
Saint Solar, LLC | EG20-214-000
Hunter Solar LLC | EG20-215-000
Tatanka Ridge Wind, LLC | EG20-216-000
American Kings Solar, LLC | EG20-217-000
Rancho Seco Solar II LLC | EG20-218-000
SR Georgia Portfolio I MT, LLC | EG20-219-000
East Line Solar, LLC | EG20-220-000
Kings Point Wind, LLC | EG20-221-000
North Fork Ridge Wind, LLC | EG20-222-000
Diamond Spring, LLC | EG20-223-000
Agua Clara S.A.S | FC20-12-000
Derrysallagh Windfarm Limited | FC20-13-000
Conrad (Melksham) Ltd | FC20-14-000

Take notice that during the month of September 2020, the status of the above-captioned entities as Exempt Wholesale Generators or Foreign Utility Companies became effective by operation of the Commission's regulations. 18 CFR 366.7(a) (2020).

Dated: October 15, 2020.
Nathaniel J. Davis, Sr.,
Deputy Secretary.

[FR Doc. 2020-23286 Filed 10-20-20; 8:45 am]

BILLING CODE 6717-01-P